ENVIRONMENTAL PROTECTION AGENCY

[EPA-HQ-OPPT-2003-0004; FRL-9367-1]

Access to Confidential Business Information by Electronic Consulting Services, Inc., and Its Identified Subcontractors, Cherokee Services Group and Dell Services Federal Government

AGENCY: Environmental Protection Agency (EPA).

ACTION: Notice.

SUMMARY: EPA has authorized its contractor, Electronic Consulting Services, Inc. (ECS) of Fairfax, VA and its identified subcontractors, Cherokee Services Group of Catoosa, OK and Dell Services Federal Government of Fairfax, VA to access information which has been submitted to EPA under all sections of the Toxic Substances Control Act (TSCA). Some of the information may be claimed or determined to be Confidential Business Information (CBI).

DATES: Access to the confidential data will occur no sooner than November 28, 2012.

FOR FURTHER INFORMATION CONTACT:

For technical information contact: Holly Fenderson, Enterprise Desktop Solution Division (2832T), Office of Environmental Information, Environmental Protection Agency, 1200 Pennsylvania Ave. NW., Washington, DC 20460-0001; telephone number: (202) 566-1793; fax number: (202) 566-1790; email address: fenderson.holly@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this notice apply to me?

This action is directed to the public in general. This action may, however, be of interest to all who manufacture, process, or distribute industrial chemicals. Since other entities may also be interested, the Agency has not attempted to describe all the specific entities that may be affected by this action. If you have any questions regarding the applicability of this action to a particular entity, consult the technical person listed under FOR FURTHER INFORMATION CONTACT.

B. How can I get copies of this document and other related information?

EPA has established a docket for this action under docket identification (ID) number EPA-HQ-OPPT-2003-0004. All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. What action is the agency taking?

Under EPA contract number GS-35F-0601K, Order Number EP-G12H-00442, contractor ECS of 2750 Prosperity Ave., Suite 600, Fairfax, VA; and its identified subcontractors: Cherokee Services Group of 777 W. Cherokee Street, Catoosa, OK and Dell Services Federal Government of 8270 Willow Oaks Corporate Drive, Fairfax, VA will assist the Office of Pollution Prevention and Toxics (OPPT) by providing services and support to meet the needs of all EPA users. EPA users include standard, power, high computing, and shared computer as well as remote users and users at alternate work locations. The service providers (SP) will provide support for EPA hardware endpoints including but not limited to desktops, laptops, thin clients and scientific computers, PCs used as laboratory instrument controllers and software will be included in the scope of support only, if the High Computing Users Optional Contract Line Item (CLIN) is exercised; access to EPA server resources, data, systems, printers, and peripherals.

SPs will also provide support for EPA operating systems (OSs), Commercial Off the Shelf (COTS) software and custom developed software; access to the EPA wide area network (WAN) and the Internet; technical refresh of EPAs computing endpoints; Assistive Technology Center Support; and Training and Conference Room Support. The SPs will also provide services to complete installation, implementation, provisioning, maintenance, deprovisioning, decommission, removal and disposal of IT infrastructure through EPA's Office of Administration and Resources Management (OARM).

The Federal disposal requirements as described herein on a continuing basis are in response to EPA user requirements. SPs will also maintain an awareness of the quality, efficiency and cost-effectiveness of all services provided, with a continuing emphasis on devising and developing better methods and/or procedures to provide the IT infrastructure required by the EPA user community to meet present and future needs in support of EPA's mission. Furthermore, the SPs will provide services for coordination of procurement by EPA Federal staff through EPA's Program Offices and the EPA designated hardware provider. Finally, the SP will be required to coordinate and collaborate with other EPA infrastructure IT service providers (e.g. VoIP, PBX, switches, routers, hubs, Wireless LANs, network wiring, mobile telephone services, landline telephones, audio/video equipment and services). In accordance with 40 CFR 2.306(j), EPA has determined that under EPA contract number GS-35F-0601K, Order Number EP-G12H-00442, ECS and its identified subcontractors will require access to CBI submitted to EPA under all sections of TSCA to perform successfully the duties specified under the contract. ECS and its identified subcontractors' personnel will be given access to information submitted to EPA under all sections of TSCA. Some of the information may be claimed or determined to be CBI.

EPA is issuing this notice to inform all submitters of information under all sections of TSCA that EPA may provide ECS and its identified subcontractors access to these CBI materials on a need-to-know basis only. All access to TSCA CBI under this contract will take place at EPA Headquarters and the Research Triangle Park facilities in accordance with EPA's TSCA CBI Protection Manual.

Access to TSCA data, including CBI, will continue until September 30, 2016. If the contract is extended, this access will also continue for the duration of the extended contract without further notice.

ECS and its identified subcontractors' personnel will be required to sign nondisclosure agreements and will be briefed on appropriate security procedures before they are permitted access to TSCA CBI.

List of Subjects

Environmental protection, Confidential business information.

Dated: November 14, 2012.
Matthew G. Leopard,
Director, Information Management Division, Office of Pollution Prevention and Toxics.

[FR Doc. 2012-28096 Filed 11-20-12; 8:45 am]

BILLING CODE 6560-50-P